DEPARTMENT OF AGRICULTURE

Forest Service

Greater Rocky Mountain Resource Advisory Committee

AGENCY: Forest Service, Agriculture (USDA).

ACTION: Solicitation for members.

SUMMARY: The Forest Service, United States Department of Agriculture (USDA), is seeking nominations for the Greater Rocky Mountain Resource Advisory Committee (GRM RAC) pursuant to the Secure Rural Schools Act (the Act) and the Federal Advisory Committee Act (FACA). Additional information on the Greater Rocky Mountain Resource Advisory Committee can be found by visiting the Committee website at https://www.fs.usda.gov/detail/r2/home/?cid=fseprd972168.

DATES: Written nominations must be received by December 1, 2023. Nominations must contain a completed application packet that includes the nominee's name, resume, and completed Form AD-755 (Advisory Committee or Research and Promotion Background Information). The package must be sent to the address below.

ADDRESSES: Karley O'Connor, Partnership Coordinator, Grand Mesa, Uncompahgre, and Gunnison National Forests, 2250 South Main Street, Delta, CO 81416 or by email at karley.o'connor@usda.gov.

FOR FURTHER INFORMATION CONTACT: Karley O'Connor, Partnership Coordinator, Grand Mesa, Uncompahgre, and Gunnison National Forests, 2250 South Main Street, Delta, CO 81416, by email at karley.o'connor@usda.gov, or by phone at 970-712-0930.

Individuals who use telecommunication devices for the deaf and hard of hearing (TDD) may call the Federal Relay Service (FRS) at 1-800-877-8339, 24 hours a day, every day of the year, including holidays.

SUPPLEMENTARY INFORMATION:

Background

In accordance with the provisions of FACA, the Secretary of Agriculture is seeking nominations for the purpose of improving collaborative relationships among people who use and care for National Forests and providing advice and recommendations to the Forest Service concerning projects and funding consistent with Title II. The duties of Secure Rural Schools (SRS) RACs include monitoring projects, advising the Secretary on the progress and results of monitoring efforts, and making recommendations to the Forest Service for any appropriate changes or adjustments to the projects being monitored by the SRS RACs.

Membership Balance

The GRM RAC will be comprised of 15 members approved by the Secretary of Agriculture where each will serve a 4-year term. Memberships shall include representation from the following interest areas:

(1) Five persons who represent:

(a) Organized Labor or Non-Timber Forest Product Harvester Groups;

(b) Developed Outdoor Recreation, Off-Highway Vehicle Users, or Commercial Recreation Activities;

(c) Energy and Mineral Development, or Commercial or Recreational Fishing Groups;

(d) Commercial Timber Industry; and

(e) Federal Grazing Permit or Other Land Use Permit Holders, or Representative of Non-Industrial Private Forest Land Owners, within the area for which the Committee is organized.

(2) Five persons who represent:

(a) Nationally or Regionally Recognized Environmental Organizations;

(b) Regionally or Locally Recognized Environmental Organizations;

(c) Dispersed Recreational Activities;

(d) Archaeology and History; and

(e) Nationally or Regionally Recognized Wild Horse and Burro Interest, Wildlife Hunting Organizations, or Watershed Associations.

(3) Five persons who represent:

(a) State Elected Office holder;

(b) County or Local Elected Office holder;

(c) American Indian Tribes within or adjacent to the area for which the Committee is organized;

(d) Area School Officials or Teachers; and

(e) Affected Public-at-Large.

Nomination and Application Information

The appointment of members to the GRM RAC will be made by the Secretary of Agriculture, or their designee.

The public is invited to submit nominations for membership either as a self-nomination or a nomination of any qualified and interested person. Any individual or organization may nominate one or more qualified persons to represent the interest areas listed above. To be considered for membership, nominees must:

1. Be a resident of the State in which the SRS RAC has jurisdiction (Colorado or Wyoming);

2. Identify what interest group they would represent and how they are qualified to represent that interest group;

3. Provide a cover letter stating why they want to serve on the SRS RAC and what they can contribute;

4. Provide a resume showing their past experience in working successfully as part of a group working on forest management activities; and

5. Complete Form AD-755, Advisory Committee or Research and Promotion Background Information. The Form AD-755 may be obtained from the Greater Rocky Mountain RAC Coordinator, Karley O'Connor, at karley.o'connor@usda.gov or from the following USDA website: https://www.usda.gov/sites/default/files/documents/ad-755.pdf. All nominations will be vetted by USDA.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the Committee. To ensure that the recommendations of the Committee have taken in account the needs of the diverse groups served by USDA, membership shall include to the extent possible, individuals with demonstrated ability to represent minorities, women, and persons with disabilities. USDA is an equal opportunity provider, employer, and lender.

Dated: October 12, 2023.
Cikena Reid,
USDA Committee Management Officer.

[FR Doc. 2023-22907 Filed 10-17-23; 8:45 am]

BILLING CODE 3411-15-P